DEPARTMENT OF ENERGY

Federal Energy Regulatory Commission

[Docket No. RP03-30-001]

Algonquin LNG, LP; Notice of Compliance Filing

November 22, 2002.

Take notice that on November 20, 2002, Algonquin LNG, LP (ALNG) tendered for filing as part of its FERC Gas Tariff, Second Revised Volume No. 1, First Revised Sheet No. 1;First Revised Sheet No. 84; and First Revised Sheet No. 85, proposed to be effective on October 17, 2002.

ALNG states that the purpose of this filing is to incorporate modifications reflected in certain tariff sheets that were accepted by the Commission in an order issued subsequent to ALNG's filing of its corporate name change on October 17, 2002, which was approved by letter order dated November 4, 2002, in Docket No. RP03-30-000.

ALNG states that copies of its filing have been mailed to all affected customers and interested state commissions.

Any person desiring to protest said filing should file a protest with the Federal Energy Regulatory Commission, 888 First Street, NE., Washington, DC 20426, in accordance with section 385.211 of the Commission's rules and regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-30284 Filed 11-27-02; 8:45 am]

BILLING CODE 6717-01-P